CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paper Reduction Act of 1995, Public Law 104-13, (44 U.S.C. Chapter 35). Copies of this ICR, with applicable supporting documentation, may be obtained by calling the Corporation for National and Community Service, Carol Hafford, at (202) 606-5000, extension 232. Individuals who use a telecommunications device for the deaf (TTY-TDD) may call (800) 833-3722 between the hours of 9 a.m. and 5 p.m. Eastern Standard Time, Monday through Friday.

Comments should be sent to the Office of Information and Regulatory Affairs, Attn: Ms. Brenda Aguilar, OMB Desk Officer for the Corporation for National and Community Service, Office of Management and Budget, Room 10235, Washington, DC, 20503, within 30 days from the date of publication in this Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Agency: Corporation for National and Community Service.

Type of Review: New collection.

Title: AmeriCorps*VISTA Project Supervisors Survey.

OMB Number: None.

Agency Number: None.

Affected Public: AmeriCorps*VISTA project supervisors at community-based organizations, elementary and secondary schools, state and local agencies.

Total Respondents: Approximately 400.

Frequency: Annual.

Average Time Per Response: 30 minutes.

Estimated Total Burden Hours: 200.

Total Burden Cost (capital/startup): None.

Total Burden Cost (operating/maintenance): None.

Description: The Corporation seeks approval of one survey form that will be used to examine AmeriCorps*VISTA supervisors perceptions about training. This requires information from project supervisors that will address: (1) The extent to which Corporation-sponsored training prepares Supervisors to recruit, retain, and support AmeriCorps*VISTA members; and (2) whether, in their opinion, training provided to AmeriCorps*VISTA members contributes to the members' performance, retention, and satisfaction with the service experience.

Dated: February 25, 2002.
David Reingold,
Director, Department of Research and Policy Development.

[FR Doc. 02-4914 Filed 2-28-02; 8:45 am]

BILLING CODE 6050-$$-P